DEPARTMENT OF ENERGY

Federal Energy Regulatory Commission

[Docket No. RP96-389-065]

Columbia Gulf Transmission Company; Notice of Compliance Filing

August 28, 2002.

Take notice that on August 22, 2002, Columbia Gulf Transmission Company (Columbia Gulf) tendered for filing as part of its FERC Gas Tariff, Second Revised Volume No. 1, the following revised tariff sheet:

Effective July 1, 2002:

1st Revised Second Revised Sheet No. 316.

Effective July 5, 2002:

Substitute Third Revised Sheet No. 316.

Effective August 2, 2002:

Substitute Fourth Revised Sheet No. 316.

Columbia Gulf states that on July 18, 2002, it made a filing with the Commission seeking approval of a Rate Schedule FTS-1 negotiated rate agreement with Conoco, Inc. (Conoco) in Docket No. RP96-389-058. Also, on July 19, 2002 and July 23, 2002, Columbia Gulf made similar filings with the Commission seeking approval of Rate Schedule FTS-1 negotiated rate agreements with Aquila Merchant Services (Aquila), and Reliant Energy Services (Reliant), in Docket Nos. RP96-389-059 and RP96-389-061, respectively. On August 12, 2002, the Commission issued orders approving the Conoco and Aquila service agreements effective July 1, 2002. On August 15, 2002, the Commission approved the Reliant service agreement with an effective date of July 1, 2002. In the orders, the Commission directed Columbia Gulf to file a tariff sheet identifying the agreements as non-conforming agreements in compliance with section 154.112(b) of the Commission's regulations. The instant filing is being made to comply with Section 154.112(b) and reference the non-conforming service agreements in its Volume No. 1 tariff. The Substitute Third and Fourth Revised Sheets No. 316 are being filed to reflect the July 1, 2002 effective dates of the Conoco, Aquila, and Reliant agreements.

Columbia Gulf states that copies of its filing has been mailed to each of the parties listed on the service list.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22485 Filed 9-3-02; 8:45 am]

BILLING CODE 6717-01-P